SECURITIES AND EXCHANGE COMMISSION

[File No. 500-1]

In the Matter of Ames Department Stores, Inc., Bradlees, Inc., Caldor Corp., and Stuarts Department Stores, Inc.; Order of Suspension of Trading

November 7, 2007.

It appears to the Securities and Exchange Commission that there is a lack of current and accurate information concerning the securities of Ames Department Stores, Inc. because it has not filed any periodic reports since it filed a Form 10-Q for the period ended May 4, 2002.

It appears to the Securities and Exchange Commission that there is a lack of current and accurate information concerning the securities of Bradlees, Inc. because it has not filed any periodic reports since it filed a Form 10-Q for the period ended October 28, 2000.

It appears to the Securities and Exchange Commission that there is a lack of current and accurate information concerning the securities of Caldor Corp. because it has not filed any periodic reports since it filed a Form 10-Q for the period ended October 31, 1998.

It appears to the Securities and Exchange Commission that there is a lack of current and accurate information concerning the securities of Stuarts Department Stores, Inc. because it has not filed any periodic reports since it filed a Form 10-Q for the period ended October 28, 1995.

The Commission is of the opinion that the public interest and the protection of investors require a suspension of trading in the securities of the above-listed companies.

Therefore, it is ordered, pursuant to Section 12(k) of the Securities Exchange Act of 1934, that trading in the above-listed companies is suspended for the period from 9:30 a.m. EST on November 7, 2007, through 11:59 p.m. EST on November 20, 2007.

By the Commission.
Nancy M. Morris,
Secretary.

[FR Doc. 07-5625 Filed 11-7-07; 11:20 am]

BILLING CODE 8011-01-P